DEPARTMENT OF LABOR

Employment and Training Administration

[TA-W-32,216]

Samsonite Corporation, Tucson, AZ; Notice of Negative Determination Regarding Application for Reconsideration

By application of December 5, 2000, the petitioner requested administrative reconsideration of the Department's negative determination regarding worker eligibility to apply for trade adjustment assistance, applicable to workers of the subject firm. The denial notice was signed on November 29, 2000 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration claims that subject plant production of cut fabric used for further production of soft-sided luggage is being transferred to Mexico and the cut fabric is then incorporated into soft-sided luggage at the Mexican facility. The finished suitcase is then shipped back to the United States.

The denial of TAA for the workers of Samsonite in Tucson, Arizona, was based on the finding that criterion (3) of the worker group's eligibility requirements of Section 222 of the Trade Act was not met. Layoffs at the subject firm were the direct result of a shift in subject plant production of cut fabric to Mexico. The cut fabric is not imported back to the United States, but incorporated into the further production of soft-sided luggage. The luggage is then imported back to the United States.

As depicted in the negative determination, the preponderance in the declines in employment at the subject plant may be related to the subject firm's increasing imports of finished luggage made of cut fabric pieces. Increased imports of finished articles cannot be used as the basis for certification of workers producing a component for the finished article. Imports of cut fabric for soft-sided luggage and not of finished soft-sided luggage must be considered as the basis for possible certification of this case.

Conclusion

After review of the application and investigative findings, I conclude that there has been no error or misinterpretation of the law or of the facts which would justify reconsideration of the Department of Labor's prior decision. Accordingly, the application is denied.

Signed at Washington, DC, this 11th day of December 2000.
Linda G. Poole,
Certifying Officer, Division of Trade Adjustment Assistance.

[FR Doc. 00-32588 Filed 12-20-00; 8:45 am]

BILLING CODE 4510-30-M